DEPARTMENT OF THE INTERIOR

Bureau of Land Management

[UT933-07-4310-DP]

Notice of Intent To Prepare Supplemental Draft Resource Management Plans and Environmental Impact Statements for the Vernal and Price Field Offices, Utah

AGENCY: Bureau of Land Management, Interior.

ACTION: Notice of intent.

SUMMARY: Notice is hereby given that the Bureau of Land Management (BLM), Vernal and Price Field Offices, Utah, are preparing Supplemental Draft Resource Management Plans/Environmental Impact Statements (Draft RMP/EIS) to include additional information and analyses of wilderness characteristics on lands outside existing Wilderness Study Areas (WSAs). This information and analysis includes multiple areas in both the Vernal and Price Field Office planning areas.

DATES: Because the BLM has previously requested (Federal Register, Volume 66, Number 48, March 12, 2001, pages 14415-14417, and Federal Register, Volume 66, No. 216, November 7, 2001, pages 56343-56344) and received extensive information from the public on issues to be addressed in these RMPs, and because the Council on Environmental Quality (CEQ) regulations for implementing the National Environmental Policy Act (NEPA) do not require additional scoping for this supplemental draft RMP/EIS process (40 CFR 1502.9(c)( 4), the BLM is not asking for further public information and comment at this time. This issue has been defined in earlier scoping efforts. A 90-day public comment period will be provided upon release of the supplemental draft document EISs.

FOR FURTHER INFORMATION CONTACT: Shelley Smith, Project Manager, BLM Utah State Office, P.O. Box 45155, Salt Lake City, Utah 84145-0155; telephone: (801) 539-4053; e-mail: shelley_smith@blm.gov. The public may also contact Howard Cleavinger, Assistant Field Manager, BLM Vernal Field Office, 170 South 500 East, Vernal, Utah 84078; telephone: (435) 781-4480; e-mail: howard_cleavinger@blm.gov or Floyd Johnson, Assistant Field Manager, BLM Price Field Office, 125 South 600 West, Price, Utah 84501; telephone: (435) 636-3650; e-mail: floyd_johnson@blm.gov. Or, the public may visit the Price RMP Web site at http://www.blm.gov/rmp/ut/price and the Vernal RMP Web site at http://www.blm.gov/rmp/ut/vernal.

SUPPLEMENTARY INFORMATION: There are multiple areas in the Price and Vernal Field Offices, outside of existing wilderness study areas (WSAs), found to have wilderness characteristics in previous inventories. The BLM's Land Use Planning Handbook (H-1601-1) provides guidance for consideration of non-WSA lands with wilderness characteristics in land use planning. The handbook provides that the BLM consider these lands and resource values in planning, and prescribe measures to protect wilderness characteristics. These characteristics include appearance of naturalness, outstanding opportunities for solitude, or outstanding opportunities for primitive and unconfined recreation.

To ensure compliance with the ruling in the court case, Southern Utah Wilderness Alliance et al. v. Gale Norton, in her official capacity as Secretary of the Interior et al. (Utah District Court, Case No. 2:04CV574DAK), regarding the sale and issuance of oil and gas leases on lands outside of existing WSAs with wilderness characteristics, the BLM is supplementing its consideration of non-WSA lands with wilderness characteristics in land use planning. BLM shall ensure that (1) adequate consideration is given to wilderness characteristics in ongoing RMPs, (2) a range of alternatives is analyzed for management of these lands, and (3) an adequate analysis is prepared from which to base decisions for future oil and gas leasing.

Dated: April 4, 2007.
Jeff Rawson,
Associate State Director.

[FR Doc. E7-10032 Filed 5-23-07; 8:45 am]

BILLING CODE 4310-DQ-P